DEPARTMENT OF TRANSPORTATION

Federal Aviation Administration

14 CFR Part 117

[Docket No. FAA-2009-1093; Amdt. No. 117-1A]

RIN 2120-AJ58

Flightcrew Member Duty and Rest Requirements; OMB Approval of Information Collection

AGENCY: Federal Aviation Administration, DOT.

ACTION: Final rule; OMB approval of information collection.

SUMMARY: This document notifies the public of the Office of Management and Budget's (OMB's) approval of the information collection requirement contained in the FAA's final rule, “Flightcrew Member Duty and Rest Requirements,” which was published on January 4, 2012.

DATES: The rule published January 4, 2012 (77 FR 330), including the information collection requirement in §§ 117.7, 117.9, 117.11, 117.19, and 117.29, will become effective on January 4, 2014. This document announces that OMB approval was received on May 4, 2012.

FOR FURTHER INFORMATION CONTACT: For technical questions concerning this document, contact Dale E. Roberts, Air Transportation Division (AFS-200), Flight Standards Service, Federal Aviation Administration, 800 Independence Avenue SW., Washington, DC 20591; telephone (202) 267-5749; email: dale.e.roberts@faa.gov. For legal questions concerning this document, contact Rebecca MacPherson, Office of the Chief Counsel, Regulations Division (AGC-200), 800 Independence Avenue SW., Washington, DC 20591; telephone (202) 267-3073; email: rebecca.macpherson@faa.gov.

SUPPLEMENTARY INFORMATION: On January 4, 2012, the final rule, “Flightcrew Member Duty and Rest Requirements” was published in the Federal Register (77 FR 330). In that rule, the FAA amended the FAA's existing flight, duty and rest regulations applicable to certain certificate holders and their flightcrew members operating under the domestic, flag, and supplemental operations rules.

The paperwork burden is comprised of five areas: fatigue risk management system, § 117.7; fatigue training, § 117.9; flight time limitation, § 117.11; flight duty period extension reporting, § 117.19; and emergency and government sponsored operations, § 117.29. The information collection requirements had not been approved by OMB at the time of publication.

In accordance with the Paperwork Reduction Act, the FAA submitted a copy of the new information collection requirements to OMB for its review. OMB approved the collection on May 4, 2012, and assigned the information collection OMB Control Number 2120-0751, which expires on May 31, 2015.

This document is being published to inform affected parties of the approval, and to announce that as of January 4, 2014, affected parties are required to comply with the new information collection requirements in §§ 117.7, 117.9, 117.11, 117.19, and 117.29.

Issued in Washington, DC, on June 21, 2012.
Brenda D. Courtney,
Acting Director, Office of Rulemaking.

[FR Doc. 2012-16021 Filed 7-10-12; 8:45 am]

BILLING CODE 4910-13-P